FEDERAL COMMUNICATIONS COMMISSION

Notice of Public Information Collection(s) Being Reviewed by the Federal Communications Commission, Comments Requested

May 1, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 10, 2000. If you anticipate that you will be submitting comments, but find it difficult to do so within the period of time allowed by this notice, you should advise the contact listed below as soon as possible.

ADDRESSES: Direct all comments to Les Smith, Federal Communications Commission, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-0697.

Title: Revision of Part 22 and Part 90 of the Commission's Rules to Facilitate Future Development of Paging Systems (Second Report and Order and Further Notice of Proposed Rulemaking Memorandum Opinion and Order on Reconsideration and Third Report and Order).

Form Numbers: FCC Forms 601, 602 and 603.

Type of Review: Extension of a currently approved collection.

Respondents: Business or other for-profit; individuals or households; not-for-profit institutions; and state, local or tribal Government.

Number of Respondents: 600.

Estimated Time Per Response: 1 hour.

Frequency of Response: On occasion reporting requirement and recordkeeping requirement.

Total Annual Burden: 600 hours.

Total Annual Cost: N/A.

Needs and Uses: This collection is necessary to: lessen the administrative burden of licensees; determine the partitioned service areas and geographic area licensee's remaining service area of parties to an agreement; determine whether geographic area licensee and parties to agreements have met the applicable coverage requirements for their service areas; to determine whether the applicant is eligible to receive bidding credit as a small business; determine the real parties interest of any joint bidding agreements; and determine the appropriate unjust enrichment compensation to be remitted to the government.

OMB Control Number: 3060-0890.

Title: Settlement Agreements Among Parties in Contested Licensing Cases.

Form Number: N/A.

Type of Review: Revision of a currently approved collection.

Respondents: Business or other for-profit, individuals or households.

Number of Respondents: 45.

Estimated Time Per Response: 3 hours.

Frequency of Response: On occasion.

Total Annual Burden: 115 hours.

Total Annual Cost: $7,650.

Needs and Uses: This collection requires that parties to certain settlement agreements obtain Commission approval before the settlement agreements take place. Each request for approval of a settlement must contain specific additional information and must also include a list of all applications and pleadings that were filed in the contested case or copies of them. Also, requests must include a summary of the contested case to include a full explanation of the issues raised in the case. Finally, the case involves an alleged violation of the rules, it must include either a waiver of a statement as to why a violation didn't or wouldn't occur.

OMB Control Number: 3060-0765.

Title: Revision of Part 22 and Part 90 of the Commission's Rules to Facilitate Future Development of Paging Systems (Further Notice of Proposed Rulemaking).

Form Number: N/A.

Type of Review: Extension of a currently approved collection.

Respondents: Business or other for-profit; individuals or households; not-for-profit institutions; federal government; and state, local or tribal government.

Number of Respondents: 50,000.

Estimated Time Per Response: 3 hours.

Frequency of Response: On occasion reporting requirement.

Total Annual Burden: 56,250 hours.

Total Annual Cost: $25,101,875.

Needs and Uses: This proceeding will further establish a regulatory scheme for the common carrier paging (CCP) and private carrier paging (PCP) services which will promote efficient licensing and competition in the commercial mobile radio marketplace. The information will be used by Commission personnel to determine if the licensee is a qualifying entity to obtain a partitioned license or disaggregated spectrum. Without such information, the Commission could not determine whether the licensee is operating in compliance with the Commission's rules.

OMB Control Number: 3060-0270.

Title: Section 90.443, Content of Station Records.

Form Number: N/A.

Type of Review: Extension of a currently approved collection.

Respondents: Business or other for profit, individual or households, not-for-profit institutions, and state, local and tribal government.

Number of Respondents: 57,410.

Estimated Time Per Response: .083 hours.

Frequency of Response: Recordkeeping requirement.

Total Annual Burden: 4,765 hours.

Total Annual Cost: N/A.

Needs and Uses: This rule section requires that licensees maintain records for certain services. Section 90.443(a) requires that all stations, the dates and pertinent details of any maintenance performed on station equipment, and the name and address of the service technician who did the work. If all the maintenance is performed by the same technician or service company, the name and address need be entered only once in the station's records. Section 90.433(b) requires private land stations that are interconnected with the public switched telephone network, the licensee must maintain a detailed description of how interconnection is accomplished. When telephone service costs are shared, at least one licensee participating in the cost sharing arrangement must maintain cost sharing records. A report of the cost distribution must be placed in the licensee's station records and made available to participants in the sharing and the Commission upon request. Maintenance records are used by licensee and/or Commission field personnel to note any recurring equipment problems that may pose an aviation hazard or cause interference.

Federal Communications Commission.
Magalie Roman Salas,
Secretary.

[FR Doc. 00-11482 Filed 5-8-00; 8:45 am]

BILLING CODE 6712-01-P